DEPARTMENT OF TRANSPORTATION

Federal Aviation Administration

14 CFR Part 39

[Docket No. FAA-2005-21302; Directorate Identifier 2004-NM-189-AD]

RIN 2120-AA64

Airworthiness Directives; Empresa Brasileira de Aeronautica S.A. (EMBRAER) Model EMB-110P1 and EMB-110P2 Airplanes

AGENCY: Federal Aviation Administration (FAA), Department of Transportation (DOT).

ACTION: Notice of proposed rulemaking (NPRM).

SUMMARY: The FAA proposes to adopt a new airworthiness directive (AD) for all EMBRAER Model EMB-110P1 and EMB-110P2 airplanes. This proposed AD would require repetitive inspections for corrosion or cracking of the rotating cylinder assembly in the nose landing gear (NLG), and related investigative/corrective actions if necessary. This proposed AD would also require the eventual replacement of the rotating cylinder assembly with a new part, which terminates the need for the repetitive inspections. This proposed AD is prompted by reports of corrosion on the NLG rotating cylinder assembly. We are proposing this AD to prevent cracks from emanating from corrosion pits in the NLG rotating cylinder assembly, which could result in failure of the NLG.

DATES: We must receive comments on this proposed AD by June 24, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Empresa Brasileira de Aeronautica S.A. (EMBRAER), P.O. Box 343—CEP 12.225, Sao Jose dos Campos-SP, Brazil.

You can examine the contents of this AD docket on the Internet at http://dms.dot.gov, or in person at the Docket Management Facility, U.S. Department of Transportation, 400 Seventh Street, SW., room PL-401, on the plaza level of the Nassif Building, Washington, DC. This docket number is FAA-2005-21302; the directorate identifier for this docket is 2004-NM-189-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Send your comments to an address listed under ADDRESSES. Include “Docket No. FAA-2005-21302; Directorate Identifier 2004-NM-189-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Departamento de Aviacao Civil (DAC), which is the airworthiness authority for Brazil, notified us that an unsafe condition may exist on all EMBRAER Model EMB-110P1 and EMB-110P2 airplanes. The DAC advises that corrosion has been found on the rotating cylinder assembly in the nose landing gear (NLG). The corrosion was caused by the lack of protective compound on the internal area of the rotating cylinder assembly. Corrosion on the rotating cylinder assembly of the NLG, if not corrected, could result in cracks emanating from corrosion pits in the NLG rotating cylinder assembly, which could result in failure of the NLG.

Relevant Service Information

EMBRAER has issued Service Bulletin 110-32-0088, Revision 03, dated February 11, 2004.

Part I of the service bulletin includes procedures for performing dye penetrant inspections of the NLG rotating cylinder assembly for evidence of corrosion or cracking, and reporting any cracking to EMBRAER.

Part II of the service bulletin includes procedures for evaluation and bench inspections of the rotating cylinder assembly for evidence of corrosion or cracking; protection procedures for the rotating cylinder assembly; and corrective action if necessary. The evaluation inspection includes dye penetrant and borescope inspections. The bench inspection includes removing the rotating cylinder assembly from the airplane and performing dye penetrant and borescope inspections. The protection procedures include applying a protective material to the internal area of the rotating cylinder assembly and a borescope inspection. For airplanes on which any cracking or severe corrosion is found, the corrective action includes replacing the rotating cylinder assembly with a new rotating cylinder assembly.

Accomplishing the actions specified in the service information is intended to adequately address the unsafe condition. The DAC mandated the service information and issued Brazilian airworthiness directive 2004-04-01R1, dated July 27, 2004, to ensure the continued airworthiness of these airplanes in Brazil.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that we need to issue an AD for products of this type design that are certificated for operation in the United States.

Therefore, we are proposing this AD, which would require accomplishing the actions specified in the service information described previously, except as discussed under “Difference Between the Proposed AD and Service Information.”

Clarification of Proposed Requirements

This proposed AD would only require operators to perform the actions specified in Part II of the Accomplishment Instructions of EMBRAER Service Bulletin 110-32-0088, Revision 03, dated February 11, 2004. Requiring only the actions in Part II of the Accomplishment Instructions is consistent with the Brazilian airworthiness directive. Although the Brazilian airworthiness directive does not specifically state that only the actions in Part II of the Accomplishment Instructions are required, based on a comparison of the actions identified in paragraphs (a) and (b) of the Brazilian airworthiness directive, and the actions specified in Part I and Part II of the Accomplishment Instructions, we have determined that only the actions specified in Part II of the Accomplishment Instructions are included in the Brazilian airworthiness directive. Also, the compliance times specified in paragraphs (a) and (b) of the Brazilian airworthiness directive are the same as the compliance times specified in the service bulletin for accomplishing the actions included in Part II of the Accomplishment Instructions.

Difference Between the Proposed AD and Service Information

The EMBRAER service bulletin requests that operators report any cracking or severe corrosion found during any inspection to EMBRAER. This AD would not require that action.

Costs of Compliance

The following table provides the estimated costs for U.S. operators to comply with this proposed AD.

Estimated Costs
Action | Work hours | Average labor rate per hour | Parts | Cost per airplane | Number of U.S.-registered airplanes | Fleet cost
Inspections in Part II of service bulletin, per inspection cycle | 5 | $65 | None | $325 | 30 | $9,750, per inspection cycle.
Application of protection compound | 2 | 65 | None | 130 | 30 | 3,900.
Replacement of rotating cylinder assembly (terminating action) | 9 | 65 | 38,000 | 38,585 | 30 | 1,157,550.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Empresa Brasileira de Aeronautica S.A. (EMBRAER): Docket No. FAA-2005-21302; Directorate Identifier 2004-NM-189-AD.

Comments Due Date

(a) The Federal Aviation Administration must receive comments on this AD action by June 24, 2005.

Affected ADs

(b) None.

Applicability

(c) This AD applies to all EMBRAER Model EMB-110P1 and EMB-110P2 airplanes, certificated in any category.

Unsafe Condition

(d) This AD was prompted by reports of corrosion on the rotating cylinder assembly in the nose landing gear (NLG). We are issuing this AD to prevent cracks from emanating from corrosion pits in the NLG rotating cylinder assembly, which could result in failure of the NLG.

Compliance

(e) You are responsible for having the actions required by this AD performed within the compliance times specified, unless the actions have already been done.

Service Bulletin References

(f) The term “service bulletin,” as used in this AD, means the Accomplishment Instructions of EMBRAER Service Bulletin 110-32-088, Revision 03, dated February 11, 2004.

Inspections and Related Investigative/Corrective Actions

(g) Within 150 flight hours or 4 months after the effective date of this AD, whichever is first: Perform the evaluation inspection for corrosion or cracking of the NLG rotating cylinder assembly, in accordance with Part II of the service bulletin. Depending on the results of the inspections, perform the applicable action specified in paragraph (g)(1), (g)(2), (g)(3), or (g)(4) of this AD.

(1) If no corrosion or cracking is found: Perform the detailed bench inspection required by paragraph (h) of this AD at the time specified in paragraph (h) of this AD.

(2) If only light corrosion is found: Repeat the inspection required by paragraph (g) of this AD thereafter at intervals not to exceed 150 flight hours or 4 months, whichever occurs first, until the requirements specified in paragraph (h) or (i) of this AD are accomplished.

(3) If severe corrosion is found, before further flight: Perform the detailed bench inspection of the rotating cylinder assembly, specified in paragraph (h) of this AD, for evidence of further corrosion or cracking.

Note 1: The criteria for determining light or severe corrosion are included in EMBRAER Service Bulletin 110-32-008, Revision 03. The presence of oxidation is not considered to be corrosion.

(4) If any cracking is found, before further flight: Replace the rotating cylinder assembly with a new part, in accordance with Part II of the service bulletin. Replacing the rotating cylinder assembly terminates the requirements of paragraphs (h) and (i) of this AD.

Bench Inspections, Protection Procedures, and Corrective Actions

(h) Within 600 flight hours or 12 months after the effective date of this AD, whichever occurs first: Perform the detailed bench inspection for corrosion or cracking of the NLG rotating cylinder assembly in accordance with Part II of the service bulletin.

(1) If no corrosion or cracking is found during any inspection, before further flight: Perform all of the actions specified in the protection procedure section in Part II of the service bulletin.

(2) If only light corrosion is found during any inspection, before further flight: Perform all of the actions specified in the protection procedure section in Part II of the service bulletin. Repeat the inspection required by paragraph (g) of this AD, thereafter, at intervals not to exceed 600 flight hours or 9 months, whichever occurs first, until accomplishing paragraph (i) of this AD.

(3) If any cracking or severe corrosion is found during any inspection, before further flight: Replace the rotating cylinder assembly with a new part in accordance with Part II of the service bulletin. Replacing the rotating cylinder assembly terminates the part replacement required by paragraph (i) of this AD.

Terminating Action

(i) Within 3,000 flight hours or 36 months after the effective date of this AD, whichever occurs first: Replace the NLG rotating cylinder assembly with a new part, in accordance with Part II of the service bulletin. Replacing the rotating cylinder assembly terminates the inspections required by paragraphs (g) and (h) of this AD.

Actions Accomplished Previously

(j) Actions accomplished before the effective date of this AD in accordance with EMBRAER Service Bulletin 110-32-0088, Revision 01, dated September 1, 2003; or EMBRAER Service Bulletin 110-32-0088, Revision 02, dated October 30, 2003; are acceptable for compliance with the corresponding requirements of this AD.

Reporting Not Required

(k) Where the service bulletin states to report inspection results to EMBRAER, that action is not required by this AD.

Alternative Methods of Compliance (AMOCs)

(l) The Manager, International Branch, ANM-116, Transport Airplane Directorate, has the authority to approve AMOCs for this AD, if requested in accordance with the procedures found in 14 CFR 39.19.

Related Information

(m) Brazilian airworthiness directive 2004-04-01R1, dated July 27, 2004, also addresses the subject of this AD.

Issued in Renton, Washington, on May 16, 2005.
Michael J. Kaszycki,
Acting Manager, Transport Airplane Directorate, Aircraft Certification Service.

[FR Doc. 05-10425 Filed 5-24-05; 8:45 am]

BILLING CODE 4910-13-P